DEPARTMENT OF COMMERCE

International Trade Administration

A-475-829

Stainless Steel Bar from Italy: Final Results of Antidumping Duty Administrative Review and Rescission of Review

AGENCY: Import Administration, International Trade Administration, Department of Commerce.

SUMMARY: On April 7, 2005, the Department of Commerce published the preliminary results of the second administrative review of the antidumping duty order on stainless steel bar from Italy. The period of review is March 1, 2003, through February 29, 2004. This review covers imports of stainless steel bar to the United States from one producer/exporter. Based on our analysis of the comments received, we conclude that the final results do not differ from the preliminary results of review, in which we found that the respondent in this review did not make shipments of subject merchandise to the United States during the period of review. Therefore, we are rescinding the administrative review. In addition, we continue to find that UGITECH S.A. is the successor-in-interest to Ugine-Savoie Imphy S.A. for purposes of determining antidumping duty liability.

EFFECTIVE DATE: August 10, 2005.

FOR FURTHER INFORMATION CONTACT: Scott Holland, AD/CVD Operations, Office 1, Import Administration, International Trade Administration, U.S. Department of Commerce, 14th Street and Constitution Avenue, NW, Washington DC 20230; telephone (202) 482-1279.

SUPPLEMENTARY INFORMATION:

Background

Since the publication of the preliminary results of this review (see Stainless Steel Bar from Italy: Preliminary Results of Antidumping Duty Administrative Review and Preliminary Rescission of Review, 70 FR 17656 (April 7, 2005) (“Preliminary Results”)), the following events have occurred:

We invited interested parties to comment on the preliminary results of this review. On May 9, 2005, we received a case brief from the Carpenter Technology Corp., Crucible Specialty Metals, Electralloy Corp., Empire Specialty Steel, Inc., Slater Steels Corp., and the United Steelworkers of America, AFL-CIO/CLC (collectively, “the petitioners”). On May 20, 2005, we received a rebuttal brief from UGITECH S.A. (“UGITECH”) (formerly known as Ugine Savoie-Imphy S.A.), an Italian exporter/producer of the subject merchandise. At the request of the petitioners, the Department held a public hearing on May 31, 2005.

Scope of the Order

For purposes of this order, the term “stainless steel bar” includes articles of stainless steel in straight lengths that have been either hot-rolled, forged, turned, cold-drawn, cold-rolled or otherwise cold-finished, or ground, having a uniform solid cross section along their whole length in the shape of circles, segments of circles, ovals, rectangles (including squares), triangles, hexagons, octagons, or other convex polygons. Stainless steel bar includes cold-finished stainless steel bars that are turned or ground in straight lengths, whether produced from hot-rolled bar or from straightened and cut rod or wire, and reinforcing bars that have indentations, ribs, grooves, or other deformations produced during the rolling process.

Except as specified above, the term does not include stainless steel semi-finished products, cut length flat-rolled products (i.e., cut length rolled products which if less than 4.75 mm in thickness have a width measuring at least 10 times the thickness, or if 4.75 mm or more in thickness having a width which exceeds 150 mm and measures at least twice the thickness), products that have been cut from stainless steel sheet, strip or plate, wire (i.e., cold-formed products in coils, of any uniform solid cross section along their whole length, which do not conform to the definition of flat-rolled products), and angles, shapes and sections.

The stainless steel bar subject to this order is currently classifiable under subheadings 7222.11.00.05, 7222.11.00.50, 7222.19.00.05, 7222.19.00.50, 7222.20.00.05, 7222.20.00.45, 7222.20.00.75, and 7222.30.00.00 of the Harmonized Tariff Schedule of the United States (“HTSUS”). Although the HTSUS subheadings are provided for convenience and customs purposes, the written description of the scope of this order is dispositive.

Analysis of Comments Received

The issue raised in the case and rebuttal briefs by parties to this review is addressed in the “Issues and Decision Memorandum for the Final Results in the Antidumping Duty Administrative Review of Stainless Steel Bar from Italy” from Barbara E. Tillman, Acting Deputy Assistant Secretary for Import Administration, to Joseph A. Spetrini, Acting Assistant Secretary for Import Administration, dated August 5, 2005 (“Decision Memorandum”), which is hereby adopted by this notice. Attached to this notice as an appendix is a listing of the issue which parties have raised and to which we have responded in the Decision Memorandum. Parties can find a complete discussion of the issue raised in this review and the corresponding recommendation in this public memorandum which is on file in the Department's Central Records Unit, Room B-099 of the main Department building (“CRU”). In addition, a complete version of the Decision Memorandum can be accessed directly on the Web at http://ia.ita.doc.gov/frn/index.html. The paper copy and electronic version of the Decision Memorandum are identical in content.

Rescission of Administrative Review

In accordance with 19 CFR 351.213(d)(3), and consistent with the Preliminary Results, we are rescinding this review with respect to UGITECH, which reported that it made no shipments of the subject merchandise to the United States during the POR. As stated in the Preliminary Results, we examined shipment data furnished by U.S. Customs and Border Protection (“CBP”) and analyzed UGITECH's quantity and value of sales at verification. See Memorandum to the File, “Verification of UGITECH S.A.'s No-Shipment Claim,” (January 13, 2004) (“UGITECH VR”). Based on this information, and for the reasons set forth in the Decision Memorandum, we are satisfied that there were no U.S. shipments of subject merchandise from UGITECH during the POR.

Successor-in-Interest and Final Results of Review

Consistent with the Preliminary Results, we find that UGITECH is the successor-in-interest to Ugine-Savoie Imphy S.A. for antidumping duty cash deposit purposes. Therefore, UGITECH will be assigned the same cash deposit rate with respect to the subject merchandise as the predecessor company, Ugine-Savoie Imphy S.A. (i.e., 33.00 percent). See Stainless Steel Bar from Italy: Final Results of Antidumping Duty Administrative Review, 69 FR 32984 (June 14, 2004.

Cash Deposit

The cash deposit requirement for this review will be effective upon publication of this notice of final results of review for all shipments of the subject merchandise entered, or withdrawn from warehouse, for consumption on or after the publication date in the Federal Register. This cash deposit rate shall remain in effect until publication of the final results of the next administrative review involving UGITECH. We will instruct CBP accordingly.

Notification to Importers

This notice serves as a preliminary reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Notification Regarding APOs

This notice also serves as a reminder to parties subject to administrative protective orders (“APOs”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

These results of administrative review and notice are published in accordance with sections 751(a)(1) and 777(i)(1) of the Act.

Dated: August 4, 2005.
Joseph A. Spetrini,
Acting Assistant Secretary for Import Administration.

APPENDIX I

List of Comments in the Issues and Decision Memorandum

Comment 1: Collapsing of UGITECH S.A. and Trafilerie Bedini S.p.A.

[FR Doc. E5-4329 Filed 8-8-05; 8:45 am]

BILLING CODE 3510-DS-S